DEPARTMENT OF VETERANS AFFAIRS

[OMB Control No. 2900-0613]

Agency Information Collection Activity Under OMB Review: Recordkeeping at Flight Schools

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by May 22, 2025.

ADDRESSES: To submit comments and recommendations for the proposed information collection, please type the following link into your browser: www.reginfo.gov/public/do/PRAMain, select “Currently under Review—Open for Public Comments”, then search the list for the information collection by Title or “OMB Control No. 2900-0613.”

FOR FURTHER INFORMATION CONTACT: VA PRA information: Dorothy Glasgow, 202-461-1084, VAPRA@va.gov.

SUPPLEMENTARY INFORMATION:

Title: Recordkeeping at Flight Schools.

OMB Control Number: 2900-0613. https://www.reginfo.gov/public/do/PRASearch.

Type of Review: Revision of a currently approved collection.

Abstract: The State Approving Agencies that approve courses for VA training use these records to determine if courses offered by flight schools should be approved. VA representatives use the records to determine the accuracy of payments made to VA students at flight schools. Regulation do not require any reports, but it does only require the recordkeeping. Flight schools have the option to store these records electronically.

An agency may not conduct or sponsor, and a person is not required to respond to a collection of information unless it displays a currently valid OMB control number. The Federal Register Notice with a 60-day comment period soliciting comments on this collection of information was published at 90 FR 741, January 6, 2025.

Affected Public: Businesses or other for Profit or Not for Profit Schools.

Estimated Annual Burden: 1,316.

Estimated Average Burden per Respondent: 20 minutes.

Frequency of Response: Annual.

Estimated Number of Respondents: 3,949.

(Authority: 44 U.S.C. 3501 et seq.)

Dorothy Glasgow,
Acting, VA PRA Clearance Officer, Office of Enterprise and Integration, Data Governance Analytics, Department of Veterans Affairs.

[FR Doc. 2025-06884 Filed 4-21-25; 8:45 am]

BILLING CODE 8320-01-P